DEPARTMENT OF DEFENSE

Department of the Army

Proposed Collection; Comment Request

AGENCY: Deputy Chief of Staff for Personnel (DAPE-ZXI-RM), U.S. Army, DoD.

ACTION: Notice.

In compliance with Section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) The accuracy of the agency's estimate of the burden of the proposed information collection; (c) Ways to enhance the quality, utility, and clarity of the information to be collected; and (d) ways to minimize the burden of the information techniques or other forms of information technology.

DATES: Consideration will be given to all comments received by May 22, 2000.

ADDRESSES: Written comments and recommendations on the proposed information collection should be sent to Department of the Army, Office of the Assistant Secretary Manpower and Reserve Affairs, 111 Army Pentagon, Washington, DC 20310-0111, ATTN: SAMR-MPP, (Kathleen A. Dillion). Consideration will be given to all comments received within 60 days of the date of publication of this notice.

FOR FURTHER INFORMATION CONTACT: To request more information on this proposed information collection or to obtain a copy of the proposal and associated collection instruments, please write to the above address, or call Department of the Army Reports clearance officer at (703) 614-0454.

TITLE, ASSOCIATED FORM, AND OMB NUMBER: Army Recruiting Market Tracking Survey.

NEEDS AND USES: The Army urgently needs redesigned marketing and recruiting strategies. New research is being carried out on the factors that affect youth willingness to enter the Army, the perceptions of their key influencers, patterns of recruiters-youth-influencers interactions, and on youth's and influencers's media habits. That research will provide the baseline information required to design new enlistment options, marketing campaigns, and recruiting strategies.

Affected Public: Individuals or household.

Annual Burden Hours: 5146.

Number of Respondents: 9,750 (6,500 youth; 3,250 parents).

Responses Per Respondent: 1.

Average Burden Per Response: 1 hour (35 youth; 25 parents).

Frequency: Voluntary.

SUPPLEMENTARY INFORMATION: The Army requires a second companion survey to provide ongoing assessments of the results of these changes and to pinpoint additional modifications that may be needed to enhance cost-effectiveness and strengthen Army recruiting. The survey will be administered to a national probability sample of youth 16-24 years of age. In half these cases, a shorter interview with one of the respondent's parent will be completed.

Gregory D. Showalter,
Army Federal Register Liaison Officer.

[FR Doc. 00-6999 Filed 3-20-00; 8:45 am]

BILLING CODE 3710-08-M